FEDERAL ELECTION COMMISSION

Sunshine Act Notices

AGENCY: Federal Election Commission.

Date and Time: Thursday, December 18, 2008, at 10 a.m.

Place: 999 E Street, NW., Washington, DC (Ninth Floor).

Status: This meeting will be open to the public.

Items To Be Discussed: Correction and Approval of Minutes.

Draft Final Rules—Repeal of Millionaires' Amendment Regulations.

Draft Final Rules—Reporting Contributions Bundled by Lobbyists, Registrants and the PACs of Lobbyists and Registrants.

Report of the Audit Division on Karen Carter for Congress.

Report of the Audit Division on Texans for Henry Cuellar Congressional Campaign.

Report of the Audit Division on Christine Jennings for Congress.

Report of the Audit Division on Friends of Weiner.

Election of Officers.

Future Meeting Dates.

Management and Administrative Matters.

Individuals who plan to attend and require special assistance, such as sign language interpretation or other reasonable accommodations, should contact Mary Dove, Commission Secretary, at (202) 694-1040, at least 72 hours prior to the hearing date.

Person to Contact for Information: Robert Biersack, Press Officer, Telephone: (202) 694-1220.

Mary W. Dove,
Secretary the Commission.

[FR Doc. E8-29885 Filed 12-17-08; 8:45 am]

BILLING CODE 6715-01-M